DEPARTMENT OF TRANSPORTATION

Federal Transit Administration

[Docket No. FTA-2023-0010]

National Public Transportation Safety Plan

AGENCY: Federal Transit Administration (FTA), Department of Transportation (DOT).

ACTION: Notice of availability and response to comments.

SUMMARY: The Federal Transit Administration (FTA) has placed into the docket and on its website the final National Public Transportation Safety Plan (National Safety Plan) that is intended to guide the national effort to manage safety risk in our nation's public transportation systems. The updated National Safety Plan establishes performance measures for Public Transportation Agency Safety Plans (PTASP), including measures for safety risk reduction programs, to improve the safety of public transportation systems that receive FTA Federal financial assistance. Transit agencies will set performance targets based on the measures in order to monitor and assess the safety performance of their public transportation systems.

DATES: The applicable date of the National Safety Plan is April 10, 2024.

FOR FURTHER INFORMATION CONTACT: For program matters, contact Arnebya Belton, Office of Transit Safety and Oversight, 202-366-7546 or arnebya.belton@dot.gov. For legal matters, contact Emily Jessup, Office of Chief Counsel, (202) 366-8907 or emily.jessup@dot.gov.

SUPPLEMENTARY INFORMATION:

Availability of Final Plan

This notice provides responses to comments received on the proposed updates to the National Safety Plan and discusses the changes made to the National Safety Plan in response. The National Safety Plan itself is not included in this notice; instead, an electronic version is available on FTA's website, at: https://www.transit.dot.gov/regulations-and-guidance/safety/national-public-transportation-safety-plan, and in the docket, at https://www.regulations.gov/docket/FTA-2023-0010.

Table of Contents

I. Background

II. Summary of Public Comments and FTA's Responses

I. Background

Congress first directed FTA to create and implement a National Public Transportation Safety Plan (National Safety Plan) under the Moving Ahead for Progress in the 21st Century (MAP-21) Act (Pub. L. 112-141), which authorized a new Public Transportation Safety Program (Safety Program) at 49 U.S.C. 5329. The Safety Program was reauthorized by the Fixing America's Surface Transportation (FAST) Act (Pub. L. 114-94) and again by the Bipartisan Infrastructure Law, enacted as the Infrastructure Investment and Jobs Act (Pub. L. 117-58).

On February 5, 2016, FTA first published a Federal Register notice (81 FR 6372) seeking comment on a proposed National Safety Plan. Subsequently, on January 18, 2017, FTA published a summary of the final changes to the National Safety Plan and responses to comments in the Federal Register (82 FR 5628) and published the finalized plan to the docket and on FTA's website.

On May 31, 2023, FTA published a notice of availability of proposed updates to the National Safety Plan and a request for comments (88 FR 34917). Pursuant to 49 U.S.C. 5329(b), the National Safety Plan includes several elements intended to improve the safety of all public transportation systems that receive Federal financial assistance under 49 U.S.C. Chapter 53. The Bipartisan Infrastructure Law identified new elements that must be included in the National Safety Plan, including:

• Safety performance measures related to the PTASP safety risk reduction program;

• In consultation with the Secretary of Health and Human Services, precautionary and reactive actions required to ensure public and personnel safety and health during an emergency; and

• Consideration, where appropriate, of performance-based and risk-based methodologies.

The Bipartisan Infrastructure Law also requires that the minimum safety performance standards for public transportation vehicles used in revenue operations take into consideration, to the extent practicable, innovations in driver assistance technologies and driver protection infrastructure, where appropriate, and a reduction in visibility impairments that contribute to pedestrian fatalities.

This update continues to strengthen FTA's safety program and addresses new requirements in the Bipartisan Infrastructure Law to further advance transit safety.

II. Summary of Public Comment and FTA's Response

The public comment period for the proposed update to the National Safety Plan closed on July 31, 2023. FTA received 34 comment submissions. Excluding two duplicate submissions, received submissions from 32 unique commenters, including States, transit agencies, trade associations, and individuals. FTA reviewed all the comments and thoughtfully considered them when finalizing the National Safety Plan.

FTA received several comments that raised issues outside of the scope of the proposed National Safety Plan. Because they are outside the scope of the proposal, FTA will not respond to those comments in this notice.

Specifically, FTA received comments on National Transit Database (NTD) reporting requirements and FTA's proposals in the Public Transportation Agency Safety Plans (PTASP) notice of proposed rulemaking (NPRM) published in the Federal Register on April 26, 2023 (88 FR 25336). FTA appreciates the interest in these areas but is not addressing these comments in this notice. Rather, FTA directs interested readers to the NTD web page on FTA's website for NTD-related information and has addressed comments related to the PTASP NPRM through the PTASP final rule, which is a separate regulatory action.

While FTA received comments on various aspects of the National Safety Plan, FTA is largely finalizing the National Safety Plan as proposed. In response to comments received, FTA has revised Chapter III of the final National Safety Plan. These revisions are discussed below in the summary of public comments and FTA's responses. Comments and responses are subdivided by their corresponding sections of the National Safety Plan and subject matter.

A. General

1. Applicability

Comments: Two commenters expressed that the National Safety Plan and safety performance measurement requirements should be consistent with the applicability of the existing PTASP regulation, which excludes recipients that only receive funding under 49 U.S.C. 5310, 49 U.S.C. 5311, or both (See: 49 CFR 673.1). One of the commenters argued that rural and small public transportation providers have limited resources and an excellent safety record, and that FTA should limit the burden of safety regulations on such providers.

One commenter expressed concern that paratransit service appeared to be excluded from the National Safety Plan, including with respect to safety performance measures and the voluntary standards and recommended practices.

Response: FTA appreciates the comments regarding the applicability of the National Safety Plan to small and rural providers and the regulatory burden on such providers. The National Safety Plan is intended to be a useful tool for all public transportation systems that receive funding under 49 U.S.C. Chapter 53, including small and rural providers. FTA notes that only agencies subject to the PTASP regulation are required to set targets using the safety performance measures in the National Safety Plan. As noted above, the PTASP regulation excludes transit agencies that receive funding only under 49 U.S.C. 5310, 49 U.S.C. 5311, or both. While some voluntary standards and resources presented in Chapter III of the National Safety Plan pertain to specific modes such as rail transit, transit agencies of all types and sizes can refer to the standards and resources presented in the National Safety Plan.

The National Safety Plan applies to paratransit service. The safety performance measures identified in Chapter II apply to paratransit service subject to the PTASP regulation, and Chapter III includes resources that pertain to paratransit service.

2. Effective Date

Comments: One commenter asked for clarification on when the National Safety Plan will go into effect, and whether it will be applicable before or after the effective date of FTA's PTASP final rule. Another commenter urged FTA to clarify that the safety performance measures must be implemented on the applicable date of the National Safety Plan. In addition, a commenter asked FTA not to delay implementation of the NTD reporting requirements that transit agencies and Safety Committees rely on to set performance targets for the new safety performance measures.

Response: The National Safety Plan is applicable upon today's publication in the Federal Register. Per 49 U.S.C. 5329(d)(4)(A), the Safety Committee of transit agencies serving a large urbanized area must set performance targets for the safety risk reduction program using a 3-year rolling average of NTD data. In a Dear Colleague letter released on February 17, 2022, FTA communicated that these performance targets need not be in place until FTA establishes related performance measures through the National Safety Plan (https://www.transit.dot.gov/safety/public-transportation-agency-safety-program/dear-colleague-letter-bipartisan-infrastructure). FTA establishes such performance measures through the National Safety Plan finalized today. Therefore, FTA expects Safety Committees to set safety performance targets for the safety risk reduction program based on the safety risk reduction program performance measures in this final National Safety Plan. Per 49 CFR 673.11(a), FTA expects that transit agencies will revise their Agency Safety Plans (ASPs) to address the new performance measures, including documenting required safety performance targets, as part of their existing annual ASP update process.

FTA recognizes that certain transit agencies may not yet have reported three years of safety event information to the NTD that corresponds to the safety risk reduction program performance measures. FTA has addressed this situation in the PTASP final rule.

FTA understands that transit agencies and their Safety Committees rely on NTD data to set PTASP performance targets, including targets for the new performance measures finalized today. In February 2023, FTA finalized NTD reporting changes regarding assaults on transit workers and fatalities that result from an impact with a bus (88 FR 11506). The new NTD requirements took effect for Full Reporters in calendar year 2023. The reporting requirements take effect for smaller reporters beginning in NTD report year 2023.

3. Safety Management Systems (SMS)

Comments: One commenter requested that FTA develop SMS-related guidance to support SMS implementation by transit managers and Safety Committees. Another commenter recommended that the updated National Safety Plan not completely supersede the 2017 version of the plan. It argued that the 2017 version includes valuable information, particularly related to SMS implementation, that is still useful to transit agencies and joint labor-management Safety Committees.

Another commenter requested that FTA add guidance to the National Safety Plan about how agencies should use the data they collect, including how to analyze safety data, use leading indicators to identify safety issues, and evaluate the effectiveness of safety efforts. It provided two examples of National Transportation Safety Board (NTSB) investigations in which agencies lacked the tools or processes to use data effectively. The commenter also urged FTA to include guidance in the National Safety Plan on Employee Safety Reporting Programs (ESRP), noting additional NTSB investigations that demonstrated this need.

One commenter requested clarification on FTA's rationale for omitting “top-down” from the definition of SMS in the National Safety Plan, noting that their agency understands the “top-down” concept to be a foundational principle of SMS.

Response: Regarding the request that FTA develop SMS-related guidance, FTA encourages transit agencies to explore the PTASP Technical Assistance Center (PTASP TAC) resource library at https://www.transit.dot.gov/PTASP-TAC to locate existing resources to support a transit agency's SMS implementation. These resources include information on topics raised by the commenters, such as data analysis and ESRP development. FTA will continue to develop and disseminate SMS technical assistance as needed through the PTASP TAC and other avenues.

Regarding the commenter that recommended against the proposed National Safety Plan completely superseding the previous version due to the elimination of SMS-related content, FTA notes that the SMS content in the original National Safety Plan did not fully reflect the SMS requirements in the PTASP rule, which FTA published in 2018. FTA has since clarified the SMS requirements, and agencies should reference updated materials in the PTASP TAC resource library. As noted above, FTA has developed substantial SMS-related guidance and technical assistance materials tailored specifically for transit agencies implementing an SMS and has made this information available to the public through more thorough and comprehensive technical assistance materials and SMS documentation published through the PTASP TAC resource library. FTA believes that providing guidance via the PTASP TAC rather than in the National Safety Plan allows FTA flexibility and responsiveness as questions arise related to the implementation of the Safety Program and SMS generally.

FTA appreciates the comment received regarding the need for additional guidance on effective data usage and ESRPs. However, FTA does not agree that the National Safety Plan is the best vehicle for this guidance because this document is not intended to include detailed technical assistance on specific topics, such as ESRPs. Instead, FTA will continue developing targeted guidance and technical assistance materials focused on specific SMS topics such as performance monitoring and measurement, safety performance target setting, and ESRP, and publishing such materials through the PTASP TAC resource library.

FTA appreciates the comment on the definition of SMS but declines to make changes in response. FTA notes that removing the phrase “top-down” is intended to reflect the multi-directional flow of information that is intrinsic to the function of an SMS. Transit worker safety reporting programs and Safety Committees are examples of multi-directional information flow throughout the agency.

B. Chapter I: Keeping Safety the Top Priority

1. Data Presentation

Comments: One commenter noted the importance of the safety performance trends presented in the National Safety Plan and recommended that FTA present a deeper dive into the associated data in the National Safety Plan, including additional granularity related to transit modes, geographical regions, population density, agency size, and other factors. This commenter noted in particular that the data on transit worker fatalities would benefit from additional context to help understand the effectiveness of existing mitigations. The commenter asked if FTA could provide additional ongoing analyses of safety performance data, including when relevant to FTA's actions to reduce safety risk and highlighted FTA's issuance of Special Directives as an example. One commenter commented that the data FTA used to prepare the charts included in Chapter I displaying safety trends in the transit industry is incomplete because the NTD did not previously collect the full picture of transit worker assaults.

Response: The data presented in Chapter I of the National Safety Plan are intended to provide a high-level snapshot of transit industry safety performance. FTA publishes more granular data monthly through the NTD, including individual event records and summary safety analyses, at https://www.transit.dot.gov/ntd/ntd-data. FTA will continue to explore additional methods for developing and publishing topic-specific safety performance analyses and communicating the data that contributes to FTA's actions to reduce safety risk.

Regarding transit worker assaults, FTA developed the charts in Chapter I based on historical data that was reported to the NTD. As transit agencies report to the NTD using the new definitions, FTA will update these charts using that data in future iterations of the National Safety Plan.

2. Public Transportation Safety Concerns

Comments: One commenter expressed support for the inclusion of bus and pedestrian collisions as a safety concern and encouraged FTA to consider how bus electrification may impact pedestrian safety. Another commenter noted that the National Safety Plan does not mention suicides and urged FTA to add suicide prevention as a top safety concern in Chapter I.

Response: FTA appreciates the comments received regarding specific safety concerns facing the transit industry that were not included in the proposed National Safety Plan. In response to the suggestion regarding bus electrification, FTA has added two best practices resources developed by FTA to Chapter III of the National Safety Plan that address safety concerns related to the electrification of bus fleets: “Safety and Security Certification of Electric Bus Fleets” and “Procuring and Maintaining Battery Electric Buses and Charging Systems.”

FTA agrees that suicide prevention is an important issue facing the transit industry. In December 2022, FTA issued Safety Advisory 22-4: Suicide Prevention Signage on Public Transit that recommends transit agencies apply best practices for reducing suicide attempts to suicide prevention signage and messaging campaigns. While FTA declines to add suicide prevention to Chapter I of the National Safety Plan, it has added a resource to Chapter III in response to this commenter's concerns: “Mitigations for Trespasser and Suicide Fatalities and Injuries.”

After consideration of comments received, FTA is finalizing Chapter I of the National Safety Plan as proposed.

C. Chapter II: Safety Performance Criteria

1. Definitions

Comments: One commenter urged FTA to specify that transit agencies should use the revised NTD definition of “assault on a transit worker” when setting the safety performance target for assault on a transit worker. Two commenters expressed concern with the definition of “assault on a transit worker” and its impact on data reporting and associated data analyses. A commenter argued that it is difficult to apply certain elements of the definition consistently, such as determining when an individual acted “knowingly” and “with intent.” Another commenter noted that the definition may differ from the definition of assault under State law, which may require agencies to keep separate records for State law purposes and result in other burdens. A commenter requested that FTA work with transit agencies to clarify the term.

One commenter urged FTA to address consistency with event definitions used across FTA programs to ensure performance measurement consistency and reduce administrative burden. The commenter stated that FTA should not impose safety performance measurement requirements until it addresses definitional inconsistencies. One commenter asked what definition of “Safety Event” transit agencies should use for the major event performance measure. One commenter recommended that FTA allow individual transit agencies to define what events will be included in the major events performance measure, noting that safety risk differs at each agency.

Response: FTA appreciates the challenges associated with new definitions and NTD reporting requirements. FTA confirms that the term “assault on a transit worker” in the National Safety Plan has the same definition as in the NTD, which mirrors the statutory definition in 49 U.S.C. 5302. Although the definition potentially differs from how assault is defined under State law, FTA believes it is critical to ensure the definition used in the National Safety Plan, including in the performance measurement context, is consistent with the statutory and NTD definition. This is because the NTD is the primary source of data used for performance target setting. Moreover, Safety Committees must set safety risk reduction program performance targets using a 3-year rolling average of NTD data, as required by 49 U.S.C. 5329(d)(4)(A). For additional information regarding the NTD definition of “assault” and “assault on a transit worker,” FTA refers readers to the Federal Register notice finalizing the recent NTD Safety and Security Reporting requirements (88 FR 11506).

FTA appreciates the requests for additional guidance from FTA about the definition of “assault on a transit worker” and how it should be applied. The NTD program serves as FTA's system for collection of assaults on transit worker data and ensures all associated reporting requirements are clarified, including definitional questions stemming from the terms “knowingly” and “with intent” in the definition of “assault on a transit worker.” Further, the NTD program provides guidance on the new assault on a transit worker reporting requirements to the NTD reporting community through (1) annual messaging around updates to reporting requirements, (2) regular communications with reporters (both through the system's blast messaging, and between the reporter and their assigned validation analyst), (3) an updated Frequently Asked Questions (FAQ) section on the FTA website specific to assaults on transit workers, and (4) updates to guidance and training.

The NTD program has developed several training opportunities and guidance materials to help agencies address the new assault on transit worker reporting requirements. The 2023 NTD Safety and Security Reporting Policy Manual provides detailed guidance about safety and security reporting, including assaults on transit workers. In addition, the 2023 safety and security quick reference guides, both for rail and non-rail modes, define reportable events and identify reporting thresholds. A webinar on 2023 Safety & Security Updates: Reporting Assaults on Transit Workers, was provided to the public on April 27, 2023, and is available for viewing online. Finally, the NTD program develops courses pertaining to safety reporting for full reporters (rail and non-rail) as well as reduced reporters (see the National Transit Institute (NTI) website for schedule— https://www.ntionline.com/events-2/).

FTA appreciates the comments received regarding consistency in event definitions across FTA programs and will take the need for consistency into consideration as it develops its pending safety rulemakings. FTA confirms that the major events and major event rate safety performance measures include all safety and security major events as defined by the NTD. This creates consistent requirements across transit agencies and ensures definitional alignment across safety programs. For this reason, FTA disagrees that it is necessary to delay implementation of the safety performance measures.

FTA disagrees with the commenter who suggested transit agencies should define what events to include in the major events safety performance measures because FTA believes this approach would undercut efforts to ensure consistency of performance measurement requirements across the industry. FTA's proposed approach is consistent with previous PTASP safety performance measurement guidance, which used the NTD major event definition for the previous safety event performance measures.

2. Required Safety Performance Measures for All Agencies Subject to the PTASP Regulation

Additional Measures

Comments: Several commenters recommended that FTA add required safety performance measures in addition to the 14 measures proposed in the National Safety Plan. One commenter recommended that FTA add measures for the pedestrian collision rate of mobility assistive device users and the number of sidewalks, crosswalks, and pedestrian signals that are compliant with the Americans with Disabilities Act (ADA). Another commenter requested that FTA add safety performance measures gauging connectivity and transit agencies' adoption of preventative measures and technologies. One commenter urged FTA to include a performance measure regarding suicide attempts and deaths.

Another commenter recommended that the National Safety Plan should include performance measures for the total numbers of collisions, transit worker fatalities, and transit worker injuries. The commenter expressed concern that only using rate-based performance measures for such events could obscure their scope at larger transit agencies. It stated that there is no clear distinction explaining why FTA would require both total numbers and rates for other performance measures, but only rates for those three.

Response: FTA considered each of the suggestions regarding additional safety performance measures for all transit agencies subject to the PTASP regulation. However, FTA declines to adopt the suggestions and establishes only the safety performance measures identified in its proposal. FTA believes these safety performance measures provide a comprehensive look at transit agencies' safety performance, without attempting to identify every measure that an agency may select and enable each agency to monitor safety performance based on data that is collected by the NTD.

Many of the measures suggested by commenters, while useful measures, are not data points that FTA currently collects through the NTD. These include measures recommended by commenters such as: pedestrian collision rate of mobility assistive device users; the number of sidewalks, crosswalks, and pedestrian signals that are ADA compliant; measures gauging connectivity; and technology adoption rates. In the final National Safety Plan, FTA is only adding new measures that are based on data that agencies currently report to the NTD. This approach provides consistency across the industry and helps minimize data-related collection burdens.

FTA appreciates the recommendation that FTA require transit agencies to set safety performance targets for total counts of collisions, transit worker fatalities, and transit worker injuries. FTA believes that safety issues related to these three areas justify the establishment of related safety performance measures for all agencies subject to the PTASP regulation. To this end, FTA has established performance measures regarding the rates of collisions, transit worker fatalities, and transit worker injuries. However, as described in the next section below, several commenters expressed concern about the burden related to new safety performance measures. FTA believes that establishing only rate-based safety performance measures for collisions, transit worker fatalities, and transit worker injuries strikes a reasonable balance between ensuring that transit agencies are monitoring safety performance related to these important issues and limiting the burden that setting additional performance targets would impose. Therefore, FTA declines to establish safety performance measures for total counts of collisions, transit worker fatalities, and transit worker injuries. Transit agencies may determine a need to put in place additional performance measures, such as total counts of collisions, transit worker fatalities and transit worker injuries, and to set associated safety performance targets.

FTA disagrees that the scope of safety concerns will be obscured at large transit agencies by not requiring all agencies to set safety performance targets for the total numbers of collisions, transit worker fatalities, and transit worker injuries. The safety performance measures in the National Safety Plan do not limit visibility into an agency's safety performance. Safety data analysis at a transit agency should not be limited to safety performance targets. FTA expects that transit agencies will use additional contextual data to understand safety performance beyond the required safety performance measures and safety performance targets.

Regarding the proposal to include safety performance measures related to suicides, FTA acknowledges that for many transit agencies suicide is an important safety concern. FTA notes that suicides are a subset of two safety performance measures in the National Safety Plan—major events and collisions. FTA also notes that suicide concerns may vary significantly across the transit industry based on system type and other transit agency operational realities. FTA does not believe it is necessary to require all transit agencies to set safety performance targets for suicide-related safety performance measures because of this varied safety risk and declines to establish suicides as a performance measure in the National Safety Plan. However, FTA notes that transit agencies may voluntarily establish additional safety performance measures, such as suicide counts and rates, and set associated safety performance targets based on needs identified through Safety Risk Management and Safety Assurance activities.

Burden

Comments: Two commenters expressed concern that the proposed increase of safety performance measures for all agencies subject to the PTASP regulation from seven to 14 measures would result in increased administrative and data reporting burden for transit agencies. Further, the commenters urged FTA to consider the burden on specific types of providers, such as rail transit providers who must comply with State Safety Oversight Agency requirements, and small and medium sized transit agencies with limited resources. One commenter stated that rail transit agencies operating multiple other modes and serving large urbanized areas may be required to have up to 66 performance targets across the general and safety risk reduction program performance measures. The commenter requested that FTA coordinate with the industry on the feasibility of these changes. Another commenter requested that FTA offer training, technical assistance, and additional funding to assist agencies with compliance.

One commenter noted that the Pedestrian Collision Rate and Vehicular Collision Rate measures may be particularly burdensome because they have not been collected by the NTD in the past.

Response: FTA appreciates the potential burden related to increasing the number of safety performance measures for all agencies subject to the PTASP regulation from seven to 14. FTA has thoroughly considered the effects of these measures on different types of providers, including small providers and rail transit agencies serving large urbanized areas, and has taken these effects into consideration when finalizing these performance measures. To reduce data analysis burden on transit agencies, FTA has taken care to ensure that all new safety performance measures are data points that transit agencies report to the NTD on an ongoing basis. As of the 2023 NTD report year, agencies track, record, and report this information as part of their NTD reporting requirements. Agencies should have access to these records internally and may download these data for their agency and other transit agencies from the NTD data portal at https://www.transit.dot.gov/ntd/ntd-data. Importantly, FTA also notes that the National Safety Plan does not require transit agencies to submit data or safety performance targets to FTA. FTA appreciates the comment regarding the importance of industry review and feedback regarding safety performance measures. FTA sought industry feedback on the performance measures by publishing the proposed National Safety Plan in the Federal Register for public comment.

Regarding the number of safety performance measures for all transit agencies subject to the PTASP regulation, FTA agrees with the commenter noting that some providers will be required to set more than 14 safety performance targets based on these measures. As with existing safety performance measurement requirements, transit agencies set safety performance targets through PTASP by mode. Through previous guidance, FTA has identified three modal groups for PTASP performance target setting: fixed route bus, non-fixed route bus, and rail. This means that transit agencies that provide service within all three of these groups already have been setting 21 safety performance targets per year through PTASP based on the performance measures established under the 2017 National Safety Plan. Based on the safety performance measures that FTA is establishing under the new National Safety Plan, transit agencies serving all three modal groups would set 42 safety performance targets per year. In addition, the Safety Committee of transit agencies serving large urbanized areas with service in all three modal groups would set 24 annual safety performance targets for the safety risk reduction program. This therefore raises the total number of safety performance targets to 66 for certain providers.

In finalizing these measures, FTA has worked to minimize burden. FTA notes that 7 of the 8 safety performance measures for the safety risk reduction program overlap with the safety performance measures required of all agencies subject to the PTASP regulation. To reduce burden associated with target setting, transit agencies serving large urbanized areas may opt to use the same safety performance target set by the Safety Committee for the safety risk reduction program to satisfy the general safety performance target requirement for overlapping measures. In effect, this reduces the minimum number of required safety performance targets from 66 to 45 for providers serving large urbanized areas with service in all three modal groups. Further, transit agencies now have years of experience setting annual safety performance targets, which alleviates the burden of additional measures. Additionally, all of the new measures represent data the agencies track and report to the FTA through the NTD program, which helps to limit data management and analysis burden. FTA notes that the new safety performance measures identified by FTA relate to transit worker safety and transit collisions, two safety concerns addressed directly by the Bipartisan Infrastructure Law.

FTA is committed to developing technical assistance and training to support transit agency compliance with safety performance measurement and target setting requirements, including tools and materials published through the PTASP TAC, as well as webinars, workshops, and training opportunities. Further, FTA has made direct one-on-one technical assistance available to the transit industry through the PTASP TAC. FTA encourages transit agencies with questions about any PTASP related requirement, including safety performance measurement, to contact the PTASP TAC for direct technical assistance.

FTA disagrees with the commenter who argued that the Pedestrian Collision Rate and Vehicular Collision Rate measures may be particularly burdensome because they are tied to data points that have not been collected in the past. While neither Pedestrian Collision Rate nor Vehicular Collision Rate were required safety performance measures in the past, transit agencies are now required to report this collision data to the NTD. These data therefore should be readily available to transit agencies, which FTA believes alleviates the potential burden.

Major Events

Comment: One commenter questioned whether FTA should adopt the proposed general major events performance measure, given that the measure is also included under the safety risk reduction program and FTA proposed separate performance measures for specific categories of safety and security events. This commenter also stated that major events is a new safety performance measure, but the measure is not noted as “new” in the updated National Safety Plan.

Response: FTA believes the major event performance measure should be included in both the set of general safety performance measures and the set of measures for the safety risk reduction program because not all transit agencies are required to have a safety risk reduction program. Specifically, agencies that do not serve a large urbanized area are only subject to the general safety performance measurement requirements. Further, FTA does not believe that including more granular measures such as collision rate or assaults on a transit worker rate causes broader measures such as major event rate to be less valuable. To the contrary, overall major event performance trends can serve as useful indicators for transit agencies of all sizes. FTA appreciates the comment about whether the major events performance measure is new. While the 2017 version of the National Safety Plan includes a performance measure for “safety events” as opposed to “major events,” the major event performance measure is not new in practice. Previous PTASP safety performance measurement guidance advises that the safety event performance measure is based on the NTD major event reporting threshold. The two measures therefore are synonymous in practice. Accordingly, FTA has not designated the measure as “new” in the updated National Safety Plan.

Collisions

Comment: One commenter supported the inclusion of rate-based performance measures for pedestrian collisions and vehicular collisions.

Response: FTA appreciates the support for these measures.

Assaults on Transit Workers

Comments: FTA received several comments regarding the assaults on transit workers performance measures. For FTA's response regarding the definition of “assault on a transit worker,” please refer to the “Definitions” section of this notice above.

One commenter expressed general support for the performance measures, as well as the transit worker injury rate and transit worker fatality rate measures. However, it argued that the National Safety Plan and proposed safety performance measures will result in significant data collection gaps and fall short of ensuring transit agencies have the data necessary to address these issues. This commenter, along with one other commenter, urged FTA to split the assault on a transit worker measures into job functions or crafts, such as operators, custodial workers, station agents, and other frontline workers in non-operating crafts. One commenter requested that the performance measures separate physical from non-physical assaults.

Another commenter opposed including assaults on transit workers as a performance measure. Two commenters urged FTA to address transit security and emergency preparedness as a separate area of regulatory focus from safety events. One of these commenters requested additional clarification on the difference between safety and security events, and between safety risk management and security risk management. The second commenter requested that FTA socialize any security and emergency preparedness guidance with the Department of Homeland Security (DHS).

One commenter recommended that FTA consider requiring the normalization of assault on transit worker data by unlinked passenger trips (UPT) in addition to vehicle revenue miles (VRM). Another commenter questioned whether VRM is a useful metric for this measure and the safety risk reduction program assault measure, noting that it may not provide meaningful data for assaults on transit workers not employed in operating roles.

Response: FTA appreciates the commenters' general support for the assaults on transit worker safety performance measures. FTA disagrees that the National Safety Plan and proposed safety performance measures will result in data collection gaps or will prevent transit agencies in any way from collecting or analyzing data to support the analysis of transit worker assault-related issues. The safety performance measures defined in the National Safety Plan do not create any data collection requirements. Nor do they prevent transit agencies from collecting and analyzing data related to assaults on transit workers.

FTA appreciates the commenter's suggestion that FTA should require transit agencies to set safety performance targets for more granular safety performance measures related to assaults on transit workers such as measures specific to job functions or crafts. However, FTA's NTD program does not currently collect assault on transit worker data at such a detailed level. As such, FTA declines to establish these more granular measures in the National Safety Plan. FTA notes that this does not prevent a transit agency from establishing safety performance measures such as assaults against custodians or assaults against station agents and setting safety performance targets for these measures in addition to the required safety performance measures and targets.

FTA also appreciates the comment recommending that FTA require all transit agencies to set separate safety performance targets for physical and non-physical assaults on transit workers. FTA revised NTD reporting in 2023 to capture this additional level of detail. While additional data analysis and safety performance monitoring of more detailed aspects of assaults on transit workers may offer value to transit agencies based on their operating realities, FTA declines at this time to establish safety performance measures for the physical and non-physical subsets of assaults on transit workers. Both these types of assaults are included in the larger performance measures for assaults on transit workers, and both are therefore captured within the required PTASP safety performance targets. FTA expects that a transit agency, through its SMS processes, will identify and address any specific safety concerns regarding assaults on transit workers, both physical and non-physical. Transit agencies may set additional targets, as needed, on a voluntary basis to support this process.

FTA disagrees with the commenter that recommended FTA remove “assaults on transit worker” from the performance measures and the recommendations to address transit security as a separate area of focus. FTA appreciates that some transit agencies treat an assault on a transit worker as both a safety and a security event. Congress directed FTA to address assaults on transit workers through both the NTD and FTA's safety program as part of FTA's work to improve safety at transit systems across the country. Accordingly, FTA declines to adopt this suggestion. FTA also appreciates that there can be a distinction between transit safety and security and FTA coordinates with other Federal agencies, including DHS, as appropriate and practicable when developing guidance in this area.

FTA appreciates suggestions from commenters regarding normalization alternatives for calculating rates of assaults on transit workers. While other metrics like UPT may provide alternative risk exposure measurements, FTA disagrees with changing the performance measure as proposed in the National Safety Plan. As a general practice and according to existing PTASP program guidance and technical assistance, FTA calculates performance rates using service provided (VRM) and not service consumed (UPT). For consistency and to limit safety performance measurement burden, FTA continues to use VRM for the required safety performance measure rates. Further, analysis performed within FTA demonstrates minimal differences when evaluating trends of assaults on transit workers per VRM or per UPT. As noted above, transit agencies have the flexibility to establish additional measures beyond the 14 established by the National Safety Plan. A transit agency may opt to also establish additional safety performance measures such as rates of assaults on transit workers that use UPT or other normalizers such as revenue hours.

After consideration of comments received, FTA is adopting the performance measures for all agencies subject to the PTASP regulation as proposed.

3. Safety Performance Measures for the Safety Risk Reduction Program

FTA received several comments about PTASP safety risk reduction programs that are outside the scope of the proposed National Safety Plan. In the National Safety Plan, FTA proposed safety risk reduction program performance measures and re-stated statutory requirements for such programs. FTA did not propose specific details in the National Safety Plan regarding safety risk reduction program implementation, target setting, or the reallocation of the safety set-aside when such targets are missed. FTA addressed comments on these topics in the PTASP final rule. Accordingly, this section of the notice only addresses comments related to the safety risk reduction program safety performance measures.

Relationship to Other Performance Measures

Comments: Two commenters asked for clarification on the distinction and relationship between the safety performance measures for all agencies subject to the PTASP regulation and the safety performance measures for the safety risk reduction program, given that some of the measures overlap. Another commenter requested clarification on the possibility of an agency serving a large urbanized area having two different targets for a similar measure: one as part of the general PTASP safety performance target requirements and another under the safety risk reduction program. The commenter argued that this could lead to confusion about which target takes precedence and that presenting performance measures in two separate charts in the National Safety Plan may be overly complicated. Another commenter urged streamlining the two types of performance measures to remove any duplication and reduce burden on transit agencies. The commenter noted that transit agencies are already analyzing many of the proposed measures through their existing SMS processes.

Response: The Bipartisan Infrastructure Law introduces new safety risk reduction program performance target requirements for Section 5307 recipients that serve an urbanized area of 200,000 or more at 49 U.S.C. 5329(d)(4). This is a separate requirement from the existing general performance target setting required of all transit agencies subject to the PTASP regulation under 49 CFR 673.11(a)(3). The general safety performance measures and the safety risk reduction program safety performance measures have different programmatic purposes, are shaped by different statutory requirements, and result in different outcomes in instances where an associated safety performance target is missed. For example, per 49 U.S.C. 5329(d)(4), safety performance targets for the safety risk reduction program must be set by the Safety Committee using a three-year rolling average of data reported to the NTD, and failure to meet a safety performance target in the safety risk reduction program triggers statutorily required actions related to a transit agency's safety set-aside. These statutory requirements do not apply to the general safety performance targets required under the PTASP regulation. Due to these differences, FTA believes it is necessary to establish two separate categories of safety performance measures and believes it is helpful to visually distinguish them in two separate charts in the National Safety Plan.

FTA appreciates the potential burden associated with FTA establishing the same measure under both sets of performance measures and the concern that transit agencies are already analyzing many of the proposed measures through their existing SMS processes. However, FTA notes that transit agencies serving large urbanized areas may opt to use the same safety performance target set by the Safety Committee for the safety risk reduction program to satisfy the general safety performance target requirement for overlapping measures. In effect, this minimizes burden associated with duplication while preserving flexibility for agencies to set safety performance targets for the general safety performance measures using varied target setting methodologies. FTA agrees that transit agencies should use their SMS to address safety concerns associated with the safety performance measures identified in the National Safety Plan.

FTA acknowledges that it may be possible for an agency's Safety Committee to establish a safety performance target for a measure under the safety risk reduction program, while the agency sets a separate target for the same measure as part of the general safety performance measurement requirements. While agencies and Safety Committees may elect to use the same target for both types of measures, they are not required to do so. FTA notes that while such an arrangement is potentially duplicative, a missed target in the safety risk reduction program and the required general safety performance targets result in different outcomes, as discussed above.

Proposed Measures

Comments: Several commenters requested changes to the proposed safety performance measures for the safety risk reduction program. One commenter expressed concern that some of the proposed measures are broader than the statutory focus of the safety risk reduction program and therefore would detract from the purpose and effectiveness of the program. Specifically, the commenter urged that the safety risk reduction program collision and injury performance measures should be limited to collisions related to bus operator visibility impairments and injuries resulting from assaults on transit workers, respectively.

Another commenter suggested that FTA should add transit worker injury rate as a safety performance measure for the safety risk reduction program. Another noted that agencies should be required to address a reduction of major events under the safety risk reduction program.

Response: FTA appreciates the suggested revisions to the safety risk reduction program performance measures. FTA has thoroughly considered each suggestion but declines to adopt the recommendations. FTA identified the eight safety performance measures for the safety risk reduction program to align with the goals of the safety risk reduction program. One of these goals is to “improve safety by reducing the number and rates of accidents, injuries, and assaults on transit workers.” (49 U.S.C. 5329(d)(1)(I)). Based on this statutory language, FTA disagrees with limiting the measures to bus collisions related to visibility impairments and injuries resulting from assaults on transit workers, as suggested by the commenter. FTA continues to believe that the performance measures address the safety risk reduction program goals of an overall reduction in the number and rates of safety events and injuries, as well as a reduction of vehicular and pedestrian safety events involving transit vehicles, and the mitigation of assaults on transit workers.

FTA appreciates the recommendation to add transit worker injury rate to the set of safety performance measures established for the safety risk reduction program. FTA acknowledges the importance of this measure and notes that FTA has included it in the set of general safety performance measures. As discussed above, FTA identified the safety performance measures for the safety risk reduction program to align with the goals of the safety risk reduction program at 49 U.S.C. 5329(d)(1)(I). In the future, FTA may identify safety concerns and safety risk that necessitate additional required safety performance measures within the safety risk reduction program, but at this time declines to establish measures beyond those identified in its proposal. Finally, FTA agrees with the commenter who urged FTA to require agencies to address a reduction of major events under the safety risk reduction program. FTA confirms that FTA proposed major events as a performance measure for the safety risk reduction program and is adopting the measure in this final National Safety Plan.

5. Performance Target Setting and Safety Set-Aside

Comments: FTA received several questions and comments regarding PTASP performance target setting and the safety set-aside. One commenter asked whether the three-year rolling average requirement applies to all PTASP safety performance targets, or only the safety risk reduction program ones. Another commenter urged FTA to state that the general performance targets should be forward-looking, as opposed to being based on three-year rolling averages. Another commenter asked what role Metropolitan Planning Organizations (MPOs) play in the performance measurement process.

Several commenters recommended the development of additional technical assistance or guidance to support the effective development of safety performance targets. Similarly, one commenter recommended that FTA provide technical assistance and guidance to Safety Committees on best practices for setting safety performance targets based on the updated data requirements of the Bipartisan Infrastructure Law. Several commenters asked FTA to develop guidance to support the industry's implementation of the safety set-aside. One of these commenters asked FTA to work with the industry in developing guidance and examine issues they are facing with this requirement.

Response: FTA appreciates the comments on PTASP performance target setting. While FTA proposed safety performance measures for safety risk reduction programs in the National Safety Plan, detailed implementation requirements regarding performance target setting for the safety risk reduction program are outside the scope of the proposed National Safety Plan. FTA encourages readers to refer to the PTASP final rule for information regarding implementation of PTASP safety risk reduction program target setting. FTA confirms that the three-year rolling average requirement applies only to the safety risk reduction program. As described in the National Safety Plan, transit agencies may define their own methodology for the other targets.

FTA appreciates the comment regarding the role MPOs play in the PTASP performance measurement process and notes that in accordance with 49 U.S.C. 5303(h)(2)(B) and 5304(d)(2)(B), 49 CFR 673.15(a) requires that each State and transit agency must make its safety performance targets available to States and MPOs to aid in the planning process. In addition, § 673.15(b) requires, to the maximum extent practicable, a State or transit agency to coordinate with States and MPOs in the selection of State and MPO safety performance targets.

FTA reiterates that it did not propose specific implementation details in the National Safety Plan regarding the reallocation of the safety set-aside when certain performance targets are missed under 49 U.S.C. 5329(d)(4)(C) and (D). This requirement is addressed in the PTASP final rule at § 673.27(d)(3)(iii), and FTA is not responding to related comments in this notice.

FTA agrees with the commenters that identified the importance of technical assistance and training related to safety performance measurement for agencies and Safety Committees, as well as the safety set-aside requirements. FTA has published technical assistance on performance measurement through the PTASP TAC and will consider developing additional technical assistance on this topic and the safety set-aside for the transit industry in the future.

After consideration of comments received, FTA is finalizing Chapter II of the National Safety Plan as proposed.

D. Chapter III: Voluntary Minimum Safety Standards and Recommended Practices

1. Mandatory Standards

Comments: Several commenters encouraged FTA to move towards mandatory safety standards. Commenters argued that mandatory standards are necessary to improve transit industry safety. Two commenters urged FTA to develop mandatory standards relating to transit worker assault, with one noting that the FAST Act required FTA to issue a rulemaking on this topic.

Some commenters also recommended other topics for mandatory standard development, including standards for connected and automated vehicle (CAV) speed, size, and testing; automatic emergency braking (AEB) and pedestrian automatic emergency braking (PAEB) systems; vehicle design standards to address blind spots, ergonomics, and air quality concerns; and transit worker facilities.

Response: FTA appreciates the comments regarding the need for additional mandatory requirements or standards to improve transit safety. FTA notes that the National Safety Plan does not create new mandatory standards but rather identifies existing voluntary minimum safety standards and recommended practices, which can support transit agencies' efforts to improve transit safety. FTA is committed to addressing safety concerns, including consideration of mandatory requirements or standards where necessary and supported by data. FTA will establish any mandatory standards through separate regulatory processes.

FTA appreciates the commenters requesting mandatory standards regarding assaults on transit workers. FTA has initiated a rulemaking titled Transit Worker and Public Safety (RIN 2132-AB47), which would establish minimum baseline standards and risk-based requirements to address transit worker and public safety based on the most current research and available information, including but not limited to, addressing Section 3022 of the FAST Act. Recently, FTA issued a NPRM related to Rail Transit Roadway Worker Protection (89 FR 20605) that is proposing minimum safety standards for rail transit roadway worker protection. FTA is also exploring additional regulatory action on topics that include fatigue risk management. FTA reiterates that any mandatory standards will be undertaken through the notice and comment process.

2. Voluntary Standards

Comments: Several commenters expressed support for the voluntary nature of the minimum safety standards presented in Chapter III of the National Safety Plan. Two commenters encouraged FTA to further clarify the voluntary nature of the safety standards and recommended practices. One of them suggested moving the standards to an appendix to limit any confusion about the voluntary nature of the content and urged FTA to add a clear statement that the standards are voluntary and that changes to the National Safety Plan will be undertaken through the notice and comment process. One commenter requested that FTA develop additional technical assistance around the voluntary minimum safety standards identified in the National Safety Plan.

Response: FTA appreciates the feedback regarding the voluntary minimum safety standards and recommended practices identified in Chapter III. FTA declines to provide additional clarity on the voluntary nature of the voluntary minimum safety standards and recommended practices and disagrees that an additional appendix is necessary or would be helpful in confirming the voluntary nature of the materials presented in Chapter III. FTA believes that the title of Chapter III clearly articulates the voluntary nature of the standards and resources. FTA appreciates the comment regarding the additional technical assistance focused on the voluntary minimum safety standards and recommended practices outlined in Chapter III and will explore opportunities to develop and provide such assistance, including through the PTASP TAC.

3. Standards and Recommended Practices

Comments: One commenter commended FTA on the proposed new categories of voluntary minimum safety standards and recommended practices, including transit worker safety, pedestrian and bicyclist safety, and rail grade crossing safety. Another supported FTA's statement encouraging transit agencies to work with roadway owners to address safety concerns, noting that FTA should continue to encourage this and first and last-mile connections.

One commenter requested clarification and context regarding how FTA categorized the standards and recommended practices in Chapter III. In particular, this commenter expressed concern that Category A: Transit Worker Safety is particularly confusing.

Two commenters noted that the “Tools and Strategies for Eliminating Assaults Against Transit Operators, Volume 2: User Guide” in Subcategory A.1 does not address all law-enforcement related challenges that transit agencies may experience, including shortages of law enforcement officers and competing demands with a municipality's emergency services needs.

Two commenters recommended specific additional resources for inclusion in Chapter III. One commenter recommended inclusion of several NTSB recommendations, specifically in Categories A, B, C, and I. This commenter also recommended adding Transit Cooperative Research Program (TCRP) Report 149, “Improving Safety-Related Rules Compliance in the Public Transportation Industry.” Another commenter suggested that FTA include the Equitable Cities “Arrested Mobility Report” as a recommended resource.

Response: FTA appreciates commenters' feedback regarding the new categorization of voluntary minimum safety standards and recommended practices. FTA believes these categories help to effectively organize strategies to address industry safety concerns, including transit worker safety, pedestrian and bicyclist safety, and rail grade crossing safety. Similarly, FTA appreciates the support for FTA's statement encouraging transit agencies to work with roadway owners to address safety concerns and agrees with the commenter's statement about challenges to further incorporate first and last mile connections using micromobility systems.

With regards to the comment about the organization of Category A, the category breaks the topic of transit worker safety into three subcategories: transit worker assault prevention; roadway worker protection; and fatigue management, fitness for duty, and employee distraction. FTA believes that this organization clearly separates the three areas of voluntary minimum safety standards and recommended practices included under this category and declines to revise the category substructure.

FTA appreciates the comments regarding the “Tools and Strategies for Eliminating Assaults Against Transit Operators, Volume 2: User Guide” that FTA has included in category A.1. While this resource may not fully discuss law enforcement officer shortages, FTA believes that it offers valuable information and approaches to help transit agencies identify and deploy strategies to counter assaults against transit operators. Further, the document was developed to help transit agencies improve the safety and security of operators within existing resource and budgetary constraints and was developed with an understanding that the needs and available resources of these agencies are often different depending on their size and scope of operations.

In response to comments, FTA has added two additional resources in the final National Safety Plan: TCRP Report 149 and NTSB recommendation R-09-11 regarding programs to identify and address sleep apnea and other sleep disorders. TCRP Report 149 identifies potential best practices for all elements of a comprehensive approach to safety-related rules compliance and offers the transit industry valuable information for developing or evaluating rules compliance programs. FTA did not include all the NTSB recommendations suggested by the commenter as many of these were issued to a single entity and as such may not be directly applicable to the transit industry. However, FTA did include R-09-11, which was recommended by the NTSB to the rail transit industry.

Finally, FTA appreciates the recommendation regarding the Equitable Cities “Arrested Mobility Report.” FTA declines to include this document in Chapter III of the National Safety Plan as it does not include voluntary minimum safety standards or recommended practices for improving public transportation safety.

4. Specific Safety Concerns and Mitigations

Comments: Several commenters urged FTA to include additional standards and recommended practices to Chapter III of the National Safety Plan. Some commenters provided specific examples of transit industry hazards as well as specific safety risk mitigations that may be useful in addressing the associated safety risk. Commenters suggested that FTA consider adding standards and resources to the National Safety Plan related to topics such as: connected technology systems to alert security personnel of potentially dangerous situations; collision avoidance systems; panic buttons and body worn cameras for transit workers; digital methodologies and assessments such as condition-based health indices of transit assets and predictive maintenance solutions; and collision concerns related to the increased weight of bus fleets through electrification. Another commenter argued that FTA could do more through its Office of Research, Demonstration, and Innovation to explore how agencies are using connectivity, innovation, and operational management to address safety issues.

One commenter urged FTA to include safety standards and recommended practices regarding suicide safety events, including consideration of design interventions such as physical barriers, signage noting crisis line numbers, and follow-up care for transit workers who witness suicide events.

Another commenter recommended that when developing standards and recommended practices, FTA should explicitly include the safety of mobility assistive device users on public transportation, including with respect to railroad grade crossings, emergency signage, emergency response, and life safety equipment, and that such users should be considered in all standards as well.

One commenter asked FTA to include strategies to minimize exposure to infectious diseases, including removal of infectious aerosols in the air people breathe, consistent with the Centers for Disease Control and Prevention (CDC) or State health authority guidelines.

One commenter urged FTA to require only standard traffic lights at railroad crossings and to eliminate “red-red” flashing lights. Another commenter provided a list of several suggestions to improve transit safety, including platform screen doors for suicide prevention; signal priority; fare gates and security; emergency alarms on vehicles; and grade crossing barriers. Commenters also urged FTA to include standards and recommended practices on other topics outside the scope of transit, such as high-speed passenger rail, highways, municipal zoning, and automobile usage.

Response: FTA appreciates the information commenters have shared to the docket regarding transit industry safety concerns and potential safety risk mitigations. In response to commenters' identification of safety concerns and mitigations, FTA has added resources to Chapter III of the final National Safety Plan as discussed below. Most of these documents were not available during the original development of the proposed National Safety Plan but are now available for inclusion and are responsive to many of the suggestions offered by commenters.

FTA appreciates the comment regarding connectivity, innovation, and operational management and FTA's efforts to research these topics. Within this area, FTA has added a resource to Chapter III, Needs Assessment for Transit Rail Transmission-Based Train Control (TBTC). Further, FTA's Office of Research, Demonstration and Innovation is undertaking a number of related initiatives, including the Transit Worker and Rider Safety Best Practice Research Program as well as four new research programs to address the challenges of: (1) rising assault incidents in transit; (2) advancing autonomous rail transit track inspection technology; (3) improving transit infrastructure condition monitoring; and (4) the Bus Compartment Redesign and Bus of the Future initiatives.

Regarding the topic of challenges related to the electrification of transit fleets and associated concerns raised by commenters, FTA has added the following resources to Chapter III of the National Safety Plan: Safety and Security Certification of Electric Bus Fleets; Procuring and Maintaining Battery Electric Buses and Charging Systems; and Crash Energy Management for Heavy Rail Vehicles, Light Rail Vehicles, and Streetcars.

In response to the commenter who recommended additional resources on suicide and suicide prevention, FTA added the resource, Mitigations for Trespasser and Suicide Fatalities and Injuries to Chapter III of the National Safety Plan.

FTA appreciates the commenter that recommended FTA include the safety of mobility assistive device users on public transportation when developing standards and resources. FTA agrees with commenter on the importance of ensuring the safety of mobility assistive users, especially with respect to railroad grade crossings, emergency signage, emergency response, and life safety equipment. FTA will consider the safety of mobility assistive device users when developing standards or technical assistance.

FTA appreciates the commenter that requested FTA include strategies to minimize exposure to infectious diseases, including removal of infectious aerosols in the air people breathe. FTA coordinated with the Department of Health and Human Services (HHS) prior to publishing the proposed National Safety Plan to identify precautionary and reactive actions required to ensure public and personnel safety and health during an emergency. Following publication of the proposed National Safety Plan, FTA coordinated with HHS again to confirm the voluntary minimum safety standards and recommended practices for inclusion in the final National Safety Plan. FTA has added three related resources to the final National Safety Plan that are responsive to the commenter's suggestion: Ventilation in Buildings resources from the Centers for Disease Control (CDC); FTA's COVID-19 Resource Tool for Public Transportation; and FTA's Using Your Safety Management System (SMS) to Mitigate Infectious Disease and Respiratory Hazard Exposure. FTA has also included additional ventilation-related resources in Category E, including: Specifications and Guidelines for Rail Tunnel Design, Construction, Maintenance, and Rehabilitation; Specifications and Guidelines for Rail Tunnel Repair and Rehabilitation; and Specifications and Guidelines for Rail Tunnel Inspection and Maintenance.

Finally, FTA appreciates the commenters that offered suggestions regarding railroad crossing light requirements and other safety recommendations. FTA appreciates and has thoroughly considered all these recommendations; however, at this time FTA declines to include them in the final National Safety Plan. FTA notes that these suggestions may be considered when FTA is developing future safety standards and identifying technical assistance needs for transit safety.

Veronica Vanterpool,
Acting Administrator.

[FR Doc. 2024-07392 Filed 4-9-24; 8:45 am]

BILLING CODE 4910-57-P